DEPARTMENT OF AGRICULTURE

Forest Service

30-Day Pre-decisional Review and Opportunity To Object; Cimarron and Comanche National Grasslands Land Management Plan (Grasslands Plan)

AGENCY: The Pike and San Isabel National Forests and the Cimarron and Comanche National Grasslands, Forest Service, USDA.

Authority: 36 CFR 219.9(b)(2)(i) and 36 CFR 219.9(b)(3)(iii)

Notice: Availability of the Cimarron and Comanche National Grasslands Land Management Plan (Grasslands Plan), and 30-Day Pre-decisional Review and Objection Period.

SUMMARY: The Forest Supervisor for the Pike and San Isabel National Forests and the Cimarron and Comanche National Grasslands (PSICC) has made available the Cimarron and Comanche National Grasslands Land Management Plan (Grasslands Plan) for a 30 day pre-decisional review and objection period. The 30-day pre-decisional review and objection period commences the day following the publication of the legal notice in the Pueblo Chieftain, Pueblo, Colorado.

DATES: October 7, 2008.

FOR FURTHER INFORMATION CONTACT: Barb Masinton, 719-553-1400.

SUPPLEMENTARY INFORMATION: The Forest Supervisor for the PSICC has announced a 30-day pre-decisional review and objection period for the Grasslands Plan, as provided by 36 CFR 219.13(a). The 30-day pre-decisional review and objection period will commence the day following the publication date of the legal notice in the Pueblo Chieftain, Pueblo, Colorado. The publication date of the legal notice in this newspaper of record is the exclusive means for calculating the time to file an objection (see Forest Service Handbook 1909,12, Chapter 50, section 51.13b).

Objections may be filed only by non-federal agencies, organizations and individuals who participated in the planning process through the submission of written comments to the Forest Service pertaining to the Grasslands Plan or supporting documents. It is helpful to reference your earlier written comments to document your standing in this objection process. These objections must be: (a) In writing, (b) submitted to the Grasslands Plan Reviewing Officer (Regional Forester, Rocky Mountain Region), and (c) submitted during the 30-day pre-decisional review and objection period. Additionally, objections must contain the following:

1. The name, mailing address, and telephone number of the person or entity filing the objection. Where a single objection is filed by more than one person, the objection must indicate the lead objector to contact. The Reviewing Officer may appoint the first name listed as the lead objector to act on behalf of all parties to the single objection when the single objection does not specify a lead objector. The Reviewing Officer may communicate directly with the lead objector and is not required to notify the other listed objectors about the objection response or any other written correspondence related to the single objection;

2. A statement of the issues and the parts of the Grasslands Plan to which the objection applies, and how the objecting party would be adversely affected;

3. A concise statement explaining how the objector believes that the Grasslands Plan is inconsistent with law, regulation, or policy, or how the objector disagrees with the decision, and providing any recommendations for change, and

4. A signature or other verification of authorship is required (a scanned signature when filing electronically is acceptable).

The written notice of objection, including attachments, must be submitted to the Grasslands Plan Reviewing Officer for the Rocky Mountain Region by regular mail, e-mail, fax, hand-delivery, express delivery, or messenger service.

Objections that are delivered by hand, by express delivery, or messenger service must be delivered during business hours, Monday through Friday (excluding holidays) from 7:30 a.m. until 4:30 p.m., Mountain Time. Objections that are sent by regular mail, and those delivered by hand, by express delivery, or messenger service will only be accepted at:

USDA Forest Service, Rocky Mountain Region, ATTN: Rick Cables, Regional Forester and Grasslands Plan Reviewing Officer, 740 Simms Street, Golden, CO 80401.

E-mail: Electronically-filed objections will be accepted at: objections-rocky-mountain-regional-office@fs.fed.us.

E-mailed objections must be in Microsoft Word, Corel WordPerfect, or rich text format (.rtf) file formats. For electronically-mailed objections, the sender should typically receive an automated electronic acknowledgment from the agency as confirmation of receipt. If the sender does not receive an automated acknowledgment of the receipt of the objection, it is the sender's responsibility to ensure timely receipt by other means.

Fax: The number to use for faxing written objections is: (303) 275-5482.

Objections must he postmarked, e-mailed, faxed, or hand-delivered within 30 days following the date of publication of the legal notice in the Pueblo Chieftain, Pueblo, Colorado.

The pre-decisional Grasslands Plan and supporting documents can be accessed, viewed, and downloaded at the following Web site: http://www.fs.fed.us/r2/psicc/projects/forest_revision/. The Grasslands Plan is also available in paper copy or compact disc (CD) formats by request.

Note that all objections, including names and addresses, become part of the public record and are subject to Freedom of Information Act (FOIA) requests, except for proprietary documents and information.

Dated: October 7, 2008.
Robert J. Leaverton,
Forest Supervisor.

[FR Doc. E8-24262 Filed 10-15-08; 8:45 am]

BILLING CODE 3410-ES-M